DEPARTMENT OF HEALTH AND HUMAN SERVICES

Health Resources and Services Administration

Agency Information Collection Activities: Proposed Collection: Public Comment Request; Application for Health Center Program Award Recipients for Deemed Public Health Service Employment With Liability Protections Under the Federal Tort Claims Act, OMB No. 0906-0035—Revision

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this Information Collection Request must be received no later than February 22, 2022.

ADDRESSES: Submit your comments to paperwork@hrsa.gov or mail the HRSA Information Collection Clearance Officer, Room 14N136B, 5600 Fishers Lane, Rockville, MD 20857.

FOR FURTHER INFORMATION CONTACT: To request more information on the proposed project or to obtain a copy of the data collection plans and draft instruments, email paperwork@hrsa.gov or call Samantha Miller, the acting HRSA Information Collection Clearance Officer at (301) 443-9094.

SUPPLEMENTARY INFORMATION: When submitting comments or requesting information, please include the information request collection title for reference.

Information Collection Request Title: Application for Health Center Program Award Recipients for Deemed Public Health Service (PHS) Employment with Liability Protections under the Federal Tort Claims Act (FTCA), OMB No. 0906-0035—Revision.

Abstract: Section 224(g)-(n) of the PHS Act (42 U.S.C. 233(g)-(n)), as amended, authorizes the Secretary to “deem” entities receiving funds under section 330 of the PHS Act as PHS employees for the purposes of establishing eligibility for liability protections for covered activities and individuals under the FTCA. The Health Center Program and the Health Center FTCA Program are administered by HRSA's Bureau of Primary Health Care (BPHC). Health centers submit deeming applications annually to BPHC in the prescribed form and manner in order to obtain deemed PHS employee status for this purpose.

Need and Proposed Use of the Information: Deeming applications are required by law and must address certain specified criteria in order for deeming determinations to be issued. The application submissions provide BPHC with the information essential for evaluation of compliance with legal requirements and making a deeming determination under Section 224(g)-(n) of the PHS Act (42 U.S.C. 233(g)-(n)).

The FTCA Program uses a web based application system within HRSA's Electronic Handbooks system. These electronic application forms decrease the time and effort required to complete the older, paper-based approved FTCA application forms. The application includes: Contact information; Section 1: Review of Risk Management Systems; Section 2: Quality Improvement/Quality Assurance; Section 3: Credentialing and Privileging; Section 4: Claims Management; and Section 5: Additional Information, Certification, and Signatures.

HRSA is proposing several changes to the Application for Health Center Program Award Recipients for Deemed PHS Employment with Liability Protections Under the FTCA, to be used for Health Center deeming applications for Calendar Year 2022 and thereafter, to clarify questions posed and required documentation. Specifically, the Application includes the following proposed changes:

• Updated application language: Throughout the application, revised terminology was utilized to provide greater clarity and specificity. These changes were based on stakeholder feedback and inquiries received from HRSA's Health Center Program Support. These changes are not substantive in nature.

• Some questions were removed from the application's Quality Improvement/Quality Assurance Section, as these questions were similar to questions collected in the Risk Management Section. This change is intended to reduce duplicative information collection.

• For the Credentialing and Privileging Section, the application will return to the previous process of requiring the submission of a Credentialing List with providers' credentialing and privileging information. This change is intended to enhance HRSA's oversight and verification capabilities as it relates to continuous compliance with the FTCA statute.

Likely Respondents: Respondents include recipients of Health Center Program funds seeking deemed PHS employee status under Section 224(g)-(n) of the PHS Act (42 U.S.C. 233(g)-(n)).

Burden Statement: Burden in this context means the time expended by persons to generate, maintain, retain, disclose, or provide the information requested. This includes the time needed to review instructions; to develop, acquire, install, and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
Application for Health Center Program Deemed Public Health Service Employment Status (Initial) | 35 | 1 | 35 | 2.5 | 87.5
Application for Health Center Program Deemed Public Health Service Employment Status (Redeeming) | 1,125 | 1 | 1,125 | 2.5 | 2,812.5
Total | 1,160 | 2 | 1,160 | 5 | 2,900

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Maria G. Button,
Director, Executive Secretariat.

[FR Doc. 2021-27557 Filed 12-20-21; 8:45 am]

BILLING CODE 4165-15-P